DEPARTMENT OF THE INTERIOR

National Park Service

[NPS-WASO-NAGPRA-NPS0027384; PPWOCRADN0-PCU00RP14.R50000]

Notice of Inventory Completion: University of Alabama Museums, Tuscaloosa, AL

AGENCY: National Park Service, Interior.

ACTION: Notice.

SUMMARY: The University of Alabama Museums has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Alabama Museums. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Alabama Museums at the address in this notice by April 29, 2019.

ADDRESSES: Dr. William Bomar, Executive Director, University of Alabama Museums, 121 Smith Hall, Tuscaloosa, AL 35487, telephone (205) 348-7550, email bbomar@ua.edu.

SUPPLEMENTARY INFORMATION: Notice is here given in accordance with the Native American Graves Protection and Repatriation Act (NAGPRA), 25 U.S.C. 3003, of the completion of an inventory of human remains under the control of the University of Alabama Museums, Tuscaloosa, AL. The human remains were removed from site 1Ce308, Cherokee County, AL, and site 1Tu52, Tuscaloosa County, AL.

This notice is published as part of the National Park Service's administrative responsibilities under NAGPRA, 25 U.S.C. 3003(d)(3). The determinations in this notice are the sole responsibility of the museum, institution, or Federal agency that has control of the Native American human remains and funerary objects. The National Park Service is not responsible for the determinations in this notice.

Consultation

A detailed assessment of the human remains was made by the University of Alabama Museums professional staff in consultation with representatives of the Alabama-Coushatta Tribe of Texas (previously listed as the Alabama-Coushatta Tribes of Texas); Cherokee Nation; Coushatta Tribe of Louisiana; Eastern Band of Cherokee Indians; The Chickasaw Nation; The Choctaw Nation of Oklahoma; The Muscogee (Creek) Nation; and the United Keetoowah Band of Cherokee Indians in Oklahoma (hereafter referred to as “The Consulted Tribes”).

History and Description of the Remains

In 1976, human remains representing, at minimum, four individuals were removed from Site 1Ce308, Polecat Ford, in Cherokee County, AL. After deep plowing exposed burials, the site was leased to a group of looters. Their excavations encountered a number of burials which included Protohistoric, Barnette phase, aboriginal artifacts along with items of sixteenth century European manufacture. Two archeologists subsequently worked to locate and document as much cultural material as possible, and made a surface collection at the site. In 1981, the human remains they recovered were donated to the University of Alabama. The human remains include fragments of human bone from the surface or with no provenience, and include the following individuals: Miscellaneous 1A (HRID 4673.1) from the surface, a 25-35 year old female; Miscellaneous 1B (HRID 4673.2) from the surface, a 25-35 year old of indeterminate sex; Miscellaneous 1C (HRID 4673.3) from the surface, an individual of indeterminate sex at least 18 years old; and Miscellaneous 2 (HRID 4674), unprovenienced, a male 20-30 years old. No known individuals were identified. No associated funerary objects are present.

The mortuary practices exhibited at this site are consistent with known aboriginal practices. The Protohistoric component at Site 1Ce308 is marked by pottery of the sand tempered Lamar ceramic series. The Lamar ceramics, the artifacts of European manufacture, and other artifacts such as Citico style shell gorgets are consistent with a sixteenth century date. The Protohistoric Barnette phase is considered to be directly ancestral to the eighteenth century Coosa-Abhika Creek towns.

In 1936, human remains representing, at minimum, two individuals were removed from site 1Tu52, the Haney site, in Tuscaloosa County, AL. Site 1Tu52 was originally discovered in 1931, when the landowner plowed up a burial containing five glass beads. In 1933, he brought this find to the attention of the Alabama Museum of Natural History, now within the University of Alabama Museums. The Alabama Museum of Natural History conducted excavations at the site in 1936. These excavations encountered four burials, all within a relatively small, 2 meter by 5 meter area. The human remains were very poorly preserved, and only human remains from Burial 1 are present in the collection. The human remains have been at the University of Alabama since 1936. Two individuals are represented within Burial 1. Burial 1A (HRID 4716.1) is a 12-16 year old of unknown sex. Burial 1B (HRID 4716.2) is a 3-5 year old. One associated funerary object, an occurrence of glass beads, is missing from the collection.

Trade goods associated with each burial may be dated to the late eighteenth century. That date is corroborated by both the 1936 excavations and a subsequent reinvestigation by a University of Alabama student site for a 2011 M.A. thesis. The historic Native American ceramics from both investigations are primarily Creek related: Chattahoochee Brushed, Oakmulgee Fields Incised, and sherds of the shell tempered McKee Island series. It should be noted, however, that one sherd of Chickachae Combed, a Choctaw type, was also found.

Determinations Made by the University of Alabama Museums

Officials of the University of Alabama Museums have determined that:

• Pursuant to 25 U.S.C. 3001(9), the human remains described in this notice represent the physical remains of six individuals of Native American ancestry.

• Pursuant to 25 U.S.C. 3001(2), there is a relationship of shared group identity that can be reasonably traced between the Native American human remains and The Muscogee (Creek) Nation.

Additional Requestors and Disposition

Lineal descendants or representatives of any Indian Tribe or Native Hawaiian organization not identified in this notice that wish to request transfer of control of these human remains should submit a written request with information in support of the request to Dr. William Bomar, Executive Director, University of Alabama Museums, 121 Smith Hall, Tuscaloosa, AL 35487, telephone (205) 348-7550, email bbomar@ua.edu, by April 29, 2019. After that date, if no additional requestors have come forward, transfer of control of the human remains to The Muscogee (Creek) Nation may proceed.

The University of Alabama Museums is responsible for notifying The Consulted Tribes that this notice has been published.

Dated: February 25, 2019.
Melanie O'Brien,
Manager, National NAGPRA Program.

[FR Doc. 2019-05995 Filed 3-27-19; 8:45 am]

BILLING CODE 4312-52-P